DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before June 9, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on May 3, 2021.
Donald P. Burger,
Chief, General Approvals and Permits Branch.

Application No. | Applicant | Regulation(s) affected | Nature of the special permits thereof
Special Permits Data—Granted
3121-M | Department of Defense US Army Military Surface Deployment & Distribution Command | 172.101(i)(3) | To modify the special permit to update references to military manuals referenced in the permit.
10631-M | Department of Defense US Army Military Surface Deployment & Distribution Command | 173.243, 173.244 | To modify the special permit to remove outdated references to military programs used and to more closely align with the HMR.
10922-M | FIBA Technologies, Inc | 173.302(a), 180.205, 180.207(d)(1), 172.302(c) | To modify the special permit to authorize a 10-year retest for ISO cylinders and tubes transporting certain hazardous materials.
20499-M | Inmar Rx Solutions, Inc |  | To modify the special permit to authorize cargo only aircraft as a mode of transportation.
20584-M | Battery Solutions, LLC | 173.185(f)(3), 173.185(c)(1)(iii), 173.185(c)(1)(iv), 173.185(c)(1)(v), 173.185(c)(3), 173.185(f), 173.185(f)(1) | To modify the special permit to authorize up to 400 lbs. of damaged/defective batteries in individual packaging to be shipped in a 55-gallon drum.
20876-M | Sodastream USA Inc | 178.71 | To modify the special permit to remove the requirement of marking the outer package with the special permit number and removed the requirement that a copy of the permit be carried aboard each vessel or motor vehicle used to transport packages covered by the permit.
21018-M | Packaging and Crating Technologies, LLC | 172.200, 172.300, 172.400, 172.600, 172.700(a), 173.185(b), 173.185(c), 173.185(f) | To modify the special permit to authorize four new package sizes.
21091-N | Air Products and Chemicals, Inc | 173.301(f), 173.301(g) | To authorize the transportation in commerce of hydrogen in module assemblies containing non-DOT specification carbon fiber composite cylinders manufactured under DOT-SP 14576 without pressure relief devices.
21171-N | HDT Expeditionary Systems, Inc | 172.101(j) | To authorize the transportation in commerce of lithium batteries exceeding 35 kg by cargo-only aircraft.
21182-N | LG Energy Solution, Ltd | 172.101(j) | To authorize the transportation in commerce of lithium batteries exceeding 35 kg by cargo-only aircraft.
21191-N | Joyson Safety Systems Acquisition LLC | 172.203(a), 172.301(c), 173.166(e)(6) | To authorize the transportation in commerce of recalled safety devices that were removed from, or were intended to be used in, motor vehicles.
21221-N | Starfire Corporation | 173.56(b) | To authorize the transportation in commerce of unapproved explosives (firework components) as Division 1.1G.
21226-N | RML Group Limited | 173.185(a)(1) | To authorize the transportation in commerce aboard cargo-only aircraft of prototype and low production lithium ion batteries that have not completed all U.N. tests and exceed 35 kg net weight by cargo-only aircraft.
Special Permits Data—Denied
Special Permits Data—Withdrawn
21207-N | Volkswagen AG | 172.101(j) | To authorize the transportation in commerce of lithium ion batteries exceeding 35 kg and contained in non-specification packaging by cargo-only aircraft.
21218-N | RML Group Limited | 172.101(j) | To authorize the transportation of lithium-ion batteries which exceed the allowable weight (35 kg) by cargo aircraft.

[FR Doc. 2021-09823 Filed 5-7-21; 8:45 am]

BILLING CODE 4910-60-P